DEPARTMENT OF HEALTH AND HUMAN SERVICES

Administration for Community Living

Agency Information Collection Activities; Proposed Collection; Comment Request; National Center on Law and Elder Rights-Resource Support and User Satisfaction; OMB #0985-0060

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the information collection requirements relating to the National Center on Law and Elder Rights-Resource Support and user Satisfaction data collection used by ACL to provide aging, disability, and related legal professionals with training and complex case consultations and support for demonstration projects regarding contractually identified priority legal topics.

DATES: Comments on the collection of information must be submitted electronically by 11:59 p.m. (EST) or postmarked by October 29, 2021.

ADDRESSES: Submit electronic comments on the collection of information to: Aiesha.Gurley@acl.hhs.gov. Submit written comments on the collection of information to Administration for Community Living, Washington, DC 20201, Attention: Aiesha Gurley.

FOR FURTHER INFORMATION CONTACT: Aiesha Gurley, Administration for Community Living, Washington, DC 20201, (202) 795-7358 or by email: Aiesha.Gurley@acl.hhs.gov.

SUPPLEMENTARY INFORMATION: Under the PRA (44 U.S.C. 3501-3520), Federal agencies must obtain approval from the Office of Management and Budget (OMB) for each collection of information they conduct or sponsor. “Collection of information” is defined as and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

ACL contracts with a national legal assistance resource center, the National Center on Law and Elder Rights, to provide the required services. Through the contract, ACL provides aging, disability, and related legal professionals with training and complex case consultations and support for demonstration projects regarding contractually identified priority legal topics. The purpose of the information requested is for ACL to ensure that the resource center creates and prioritizes the training, case consultations and technical assistance resources it was contracted to provide and to ensure that the center targets the contractually designated aging network practitioners about the priority subject matters. This approach enables ACL to make data-informed decisions about the deployment of its resource center assets. These data are necessary for ACL to evaluate contractual compliance with established performance indicators.

These metrics include quantifiable increases in uptake by stakeholders of training, case consultation and technical assistance, and measures of satisfaction with and perceived benefit from these services. For example, the metrics measure successful problem resolution as a result of the services provided and quantifiable data on fulfillment of requests for training, technical assistance, and consultation related to the contractually designated legal and systems development topic areas. The information requested by ACL from legal and aging/disability professionals falls into the following areas: (1) Requests for training, case consultation, and technical assistance through an online, secure Uniform Resource Support Request Tool; (2) general requests for Legal Training (including the volume of Webinar registrations), Case Consultation.

To comment on this information collection please visit the ACL website: https://www.acl.gov/about-acl/public-input.

Estimated Program Burden

ACL estimates the burden associated with this collection of information as follows:

Respondent/data collection activity | Number of respondents | Minutes per response | Annual burden hours
Resource Support Requests | 80 | 1 min 54 sec | 2.53
Legal Training, Case Consultation, Technical Assistance Requests | 14,000 | 1 min 42 sec | 397
Outcome Measurement | 3,500 | 1 min 3 sec | 61.25
Total | 17,580 | 4 min 39 sec | 460.78

Dated: August 23, 2021.
Alison Barkoff,
Acting Administrator and Assistant Secretary for Aging.

[FR Doc. 2021-18590 Filed 8-27-21; 8:45 am]

BILLING CODE 4154-01-P